DEPARTMENT OF THE INTERIOR

Bureau of Ocean Energy Management

[Docket No. BOEM-2023-0011]

Notice of Availability of a Draft Environmental Impact Statement for SouthCoast Wind Energy, LLC's (Formerly Mayflower Wind Energy, LLC) Proposed Wind Energy Facility Offshore Massachusetts

AGENCY: Bureau of Ocean Energy Management (BOEM), Interior.

ACTION: Notice of availability; request for comments.

SUMMARY: BOEM announces the availability of the draft environmental impact statement (DEIS) for the construction and operations plan (COP) submitted by SouthCoast Wind Energy, LLC (SouthCoast Wind) for its proposed SouthCoast Wind Project (Project) offshore Massachusetts. The DEIS analyzes the potential environmental impacts of the Project as described in the COP (the proposed action) and the alternatives to the proposed action. This notice of availability (NOA) announces the start of the public review and comment period, as well as the dates and times for public hearings on the DEIS. After BOEM holds the public hearings and addresses comments provided, BOEM will publish a final environmental impact statement (EIS). The EIS will inform BOEM's decision whether to approve, approve with modifications, or disapprove the COP.

DATES: Comments must be received no later than April 3, 2023. BOEM will conduct three virtual public hearings. BOEM's virtual public hearings will be held on the following dates at the times (eastern time) indicated:

• Monday, March 20, 2023; 5 p.m.

• Wednesday, March 22, 2023; 1 p.m.

• Monday, March 27, 2023; 5 p.m.

Registration for the virtual public hearings is required and may be completed at https://www.boem.gov/renewable-energy/state-activities/southcoast-wind or by calling (703) 787-1532. Meeting information will be sent to registrants via their email address provided during registration.

ADDRESSES: The DEIS and detailed information about the Project, including the COP, can be found on BOEM's website at: https://www.boem.gov/renewable-energy/state-activities/southcoast-wind. Comments can be submitted in any of the following ways:

• Orally or in written form during any of the virtual public hearings identified in this NOA.

• In written form by mail or any other delivery service, enclosed in an envelope labeled “SouthCoast Wind DEIS” and addressed to Chief, Office of Renewable Energy Programs, Bureau of Ocean Energy Management, 45600 Woodland Road, Sterling, VA 20166.

• Through the regulations.gov web portal: Navigate to http://www.regulations.gov and search for Docket No. BOEM-2023-0011. Click on the “Comment” button below the document link. Enter your information and comment, then click “Submit Comment.”

For more information about submitting comments, please see “Information on Submitting Comments” under the SUPPLEMENTARY INFORMATION heading below.

FOR FURTHER INFORMATION CONTACT: Jessica Stromberg, BOEM Office of Renewable Energy Programs, 45600 Woodland Road, Sterling, Virginia 20166, (703) 787-1722 or jessica.stromberg@boem.gov.

SUPPLEMENTARY INFORMATION:

Proposed Action: SouthCoast Wind seeks approval to construct, own, operate, and maintain the Project: a wind energy facility and its associated export cables on the Outer Continental Shelf (OCS) offshore Massachusetts. The Project would be developed within the range of design parameters outlined in the SouthCoast Wind COP, subject to applicable mitigation measures.

The Project would be located about 26 nautical miles (nm) (48 kilometers) south of Martha's Vineyard and 20 nm (37 kilometers) south of Nantucket in the area defined in BOEM's renewable energy lease OCS-A 0521 (Leased Area). The Leased Area covers approximately 127,388 acres. The Project would comprise up to 149 positions in the Leased Area to be occupied by up to 147 wind turbine generators and up to 5 offshore substation platforms. The 149 positions will conform to a 1 nm x 1 nm grid layout with an east-west and north-south orientation, which lessees agreed will apply across all the Massachusetts and Rhode Island wind energy areas. The Project would include two export cable corridors. One corridor would be used by multiple export cables making landfall and interconnecting to the ISO New England Inc. grid in Falmouth, Massachusetts. The other corridor would be used by multiple export cables making landfall and interconnecting to the ISO New England Inc. grid at Brayton Point in Somerset, Massachusetts.

Alternatives: BOEM considered 17 alternatives when preparing the DEIS and carried forward 6 alternatives for further analysis in the DEIS. These six alternatives include five action alternatives and the no action alternative. BOEM did not analyze in detail 11 of the alternatives because they did not meet the purpose and need for the proposed action or did not meet screening criteria, which are presented in chapter 2 of the DEIS. The screening criteria included consistency with law and regulations, technical and economic feasibility, environmental impact, and geographic considerations.

Availability of the DEIS: The DEIS, COP, and associated information are available on BOEM's website at: https://www.boem.gov/renewable-energy/state-activities/southcoast-wind. BOEM has distributed digital copies of the DEIS to all parties listed in the DEIS appendix M, which also includes the location of all libraries receiving a copy. If you require a digital copy on a flash drive or paper copy, BOEM will provide one upon request, if supplies are available. You may request a flash drive or paper copy of the DEIS by calling (703) 787-1532.

Cooperating Agencies: The following eight Federal agencies and State governmental entities participated as cooperating agencies in the preparation of the DEIS: Bureau of Safety and Environmental Enforcement; U.S. Environmental Protection Agency; National Marine Fisheries Service; U.S. Army Corps of Engineers; U.S. Coast Guard; Massachusetts Office of Coastal Zone Management; Rhode Island Coastal Resources Management Council; and New York State Department of State.

Information on Submitting Comments: BOEM does not consider anonymous comments. Please include your name and address as part of your comment. BOEM makes your comment, including your name and address, available for public review online and during regular business hours. You may request that BOEM withhold your name, address, or any other personally identifiable information (PII) included in your comment from the public record; however, BOEM cannot guarantee that it will be able to do so. If you wish your name, address, or other PII to be withheld, you must state your request prominently in a cover letter and explain the harm that you fear from its disclosure such as unwarranted privacy invasion, embarrassment, or injury. Even if BOEM withholds your information in the context of this notice, your comment is subject to the Freedom of Information Act (FOIA) and any relevant court orders. If your comment is requested under FOIA or a relevant court order, your information will only be withheld if a determination is made that one of the FOIA's exemptions to disclosure applies or if the relevant court order is challenged. Such a determination will be made in accordance with the Department of the Interior's FOIA regulations and applicable law.

Please label privileged or confidential information as “Contains Confidential Information,” and consider submitting such information as a separate attachment. Information that is not labeled as privileged or confidential may be regarded by BOEM as suitable for public release.

All submissions from organizations or businesses and from individuals identifying themselves as representatives or officials of organizations or businesses will be made available for public inspection in their entirety.

Authority: 42 U.S.C. 4231 et seq. (NEPA, as amended) and 40 CFR 1506.6.

Karen Baker,
Chief, Office of Renewable Energy Programs, Bureau of Ocean Energy Management.

[FR Doc. 2023-03271 Filed 2-16-23; 8:45 am]

BILLING CODE 4340-98-P